FEDERAL COMMUNICATIONS COMMISSION

[Report No. 2479]

Petitions for Reconsideration and Clarification of Action in Rulemaking Proceedings

April 25, 2001.

Petitions for Reconsideration and Clarification have been filed in the Commission's rulemaking proceedings listed in this Public Notice and published pursuant to 47 CFR Section 1.429(e). The full text of these documents are available for viewing and copying in Room CY-A257, 445 12th Street, SW., Washington, DC or may be purchased from the Commission's copy contractor, ITS, Inc. (202) 857-3800. Oppositions to these petitions must be filed by May 21, 2001. See Section 1.4(b)(1) of the Commission's rules (47 CFR 1.4(b)(1)). Replies to an opposition must be filed within 10 days after the time for filing oppositions have expired.

Subject: Amendment of section 73.202(b), Table of Allotments, FM Broadcast Stations (Anniston and Ashland, Alabama, College Park, Covington, and Milledgeville, Georgia) (MM Docket No. 98-112, RM-9027, RM-9268, RM-9384).

Number of Petitions Filed: 2.

Subject: Reexamination of the Comparative Standards for Noncommercial Educational Applicants (MM Docket No. 95-31).

Number of Petitions Filed: 5.

Federal Communications Commission.
Magalie Roman Salas,
Secretary.

[FR Doc. 01-11178 Filed 5-3-01; 8:45 am]

BILLING CODE 6712-01-M